DEPARTMENT OF ENERGY

Federal Energy Regulatory Commission

[Project No. 14308-001]

Carbon Zero, LLC; Notice of Application Accepted for Filing With the Commission, Intent To Waive Scoping, Soliciting Motions To Intervene and Protests, Ready for Environmental Analysis, and Soliciting Comments, Terms and Conditions, Recommendations, and Prescriptions, and Establishing an Expedited Schedule for Processing

Take notice that the following hydroelectric application has been filed with the Commission and is available for public inspection.

a. Type of Application: Original Minor License.

b. Project No.: 14308-001.

c. Date filed: February 17, 2011.

d. Applicant: Carbon Zero, LLC.

e. Name of Project: Vermont Tissue Mill Hydroelectric Project.

f. Location: On the Walloomsac River, in the Town of Bennington, Bennington County, Vermont. The project would not occupy lands of the United States.

g. Filed Pursuant to: Federal Power Act, 16 U.S.C. 791(a)-825(r).

h. Applicant Contact: William F. Scully, Carbon Zero, LLC, P.O. Box 338, North Bennington, VT 05257; (802) 442-0311; wfscully@gmail.com.

i. FERC Contact: Amy K. Chang, (202) 502-8250, or email at amy.chang@ferc.gov.

j. Deadline for filing motions to intervene and protests, comments, terms and conditions, recommendations, and prescriptions: 60 days from the issuance date of this notice; reply comments are due 105 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: Vermont Tissue Mill Project would consist of two existing dams separated by a 500-foot-wide island and include: (1) An existing 15-foot-high, 85-foot-long primary dam with a spillway crest elevation of 555.0 feet above mean sea level (msl) topped with reinstalled 4-inch-high flashboards; (2) a refurbished 6-foot-high, 8-foot-wide flood gate located on the primary dam south abutment; (3) an existing 6-foot-high, 80-foot-long secondary dam with a spillway crest elevation of 555.33 feet above msl with a new 2.5-foot-high, 2.5-foot-wide minimum flow weir equipped with stop logs; (4) an existing 2,400-foot-long, 6.4-acre impoundment with a normal water surface elevation of 555.41 feet above msl; (5) an existing intake structure equipped with two 12-foot-high, 16-foot-wide flume openings equipped with stop log slots and new trashracks connected to two water conveyance channels, one 12-foot-high, 35-foot-long and one 12-foot-high, 85-foot-long; (6) an existing powerhouse with two new Kaplan turbine generating units, a 215 kilowatt (kW) unit and a 145 kW unit, with a total installed capacity of 360 kW; (7) a refurbished tailrace discharging water from the powerhouse into the main channel downstream of the primary dam; (8) a new 1.5-foot-diameter minimum flow valve in the powerhouse discharging water into an existing 35-foot-wide, 50-foot-long tailrace; (9) a reconstructed, breached 8-foot-high, 2-foot-wide, 45-foot-long retaining wall; and (10) a new buried 480-volt, 125-foot-long transmission line connecting the powerhouse to the regional grid. The project would be operated in a run-of-river mode and would have an annual generation of 1,447.5 megawatt-hours.

m. Due to the project works already existing and the limited scope of proposed rehabilitation of the project site described above, the applicant's close coordination with federal and state agencies during the preparation of the application, and agency recommended preliminary terms and conditions, we intend to waive scoping and expedite the licensing process. Based on a review of the application, resource agency consultation letters including the preliminary terms and conditions, and comments filed to date, Commission staff intends to prepare a single environmental assessment (EA). Commission staff determined that the issues that need to be addressed in its EA have been adequately identified during the pre-filing period, and no new issues are likely to be identified through additional scoping. The EA will consider assessing the potential effects of project construction and operation on geology and soils, aquatic, terrestrial, threatened and endangered species, and cultural and historic resources.

n. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

o. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST,” “MOTION TO INTERVENE,” “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

p. A license applicant must file no later than 60 days following the date of issuance of this notice: (1) A copy of the water quality certification; (2) a copy of the request for certification, including proof of the date on which the certifying agency received the request; or (3) evidence of waiver of water quality certification.

q. Procedural schedule: The application will be processed according to the following procedural schedule. Revisions to the schedule may be made as appropriate.

Milestone | Target date
Notice of the availability of the EA | October 2012.

Dated: April 24, 2012.
Kimberly D. Bose,
Secretary.

[FR Doc. 2012-10532 Filed 5-1-12; 8:45 am]

BILLING CODE 6717-01-P